DEPARTMENT OF COMMERCE

Foreign-Trade Zones Board

[B-63-2016]

Foreign-Trade Zone (FTZ) 177—Evansville, Indiana; Authorization of Production Activity; Best Chairs, Inc. d/b/a Best Home Furnishings (Upholstered Furniture); Ferdinand, Cannelton and Paoli, Indiana

On September 14, 2016, Best Chairs, Inc. d/b/a Best Home Furnishings submitted a notification of proposed production activity to the Foreign-Trade Zones (FTZ) Board for its facility within FTZ 177—Sites 5, 6, and 7, in Ferdinand, Cannelton and Paoli, Indiana.

The notification was processed in accordance with the regulations of the FTZ Board (15 CFR part 400), including notice in the Federal Register inviting public comment (81 FR 65626, September 23, 2016). The FTZ Board has determined that no further review of the activity is warranted at this time. The production activity described in the notification is authorized, subject to the FTZ Act and the Board's regulations, including Section 400.14, and subject to a restriction requiring that foreign status upholstery leather be admitted to the zone in privileged foreign status (19 CFR 146.41).

Dated: January 12, 2017.
Andrew McGilvray,
Executive Secretary.

[FR Doc. 2017-01207 Filed 1-18-17; 8:45 am]

BILLING CODE 3510-DS-P